DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 16, 2001, 66 FR 43037.

DATES: Comments must be submitted on or before January 28, 2002.

FOR FURTHER INFORMATION CONTACT: Heidi L. Coleman at the National Highway Traffic Safety Administration, Office of Chief Counsel, NCC-30, 202-366-1834, 400 Seventh Street, SW., Room 5219, Washington, DC 20590.

SUPPLEMENTARY INFORMATION: National Highway Traffic Safety Administration (NHTSA)

Title: 49 CFR Part 512, Confidential Business Information.

OMB Number: 2127-0025.

Type of Request: Extension of a currently approved collection.

Abstract: NHTSA's statutory authority under title 49 of the United States Code prohibits the agency, with certain exceptions, from making public confidential information which it obtains. On the other hand, the Administrative Procedure Act requires all agencies to make public all non-confidential information upon request (5 U.S.C. 552) and all agency rules to be supported by substantial evidence in the public record (5 U.S.C. 705). It is therefore important for the agency to determine promptly whether or not information it obtains should be accorded confidential treatment.

NHTSA promulgated 49 CFR part 512, Confidential Business Information, to establish the procedure by which NHTSA will consider claims that information submitted to the agency, or which it otherwise obtains, is confidential business information. Because of part 512, both NHTSA and the submitters of information for which confidential treatment is requested are able to ensure that confidentiality requests are properly substantiated and expeditiously processed.

Affected Public: Business and other for-profit, individuals or households.

Estimated Total Annual Burden: 1064 hours.

ADDRESSES: Send comments to the Office of Information and Regulatory Affairs, Office of Management and Budget, 725-17th Street, NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Dated: Washington, DC, November 29, 2001.
John Womack,
Acting Chief Counsel.

[FR Doc. 01-32014 Filed 12-27-01; 8:45 am]

BILLING CODE 4910-59-P